DEPARTMENT OF TRANSPORTATION

Federal Aviation Administration

14 CFR Part 431

[Docket No. FAA-1999-5535; Amdt. No. 431-5]

RIN 2120-AG71

Commercial Space Transportation Reusable Launch Vehicle and Reentry Licensing Regulations; Technical Amendment

AGENCY: Federal Aviation Administration, DOT.

ACTION: Final rule; technical amendment.

SUMMARY: The FAA is publishing this action to correct minor, editorial errors in chapter III, part 431. The errors occurred in the Commercial Space Transportation Reusable Launch Vehicle and Reentry Licensing Regulations final rule, published in the Federal Register on September 19, 2000. That final rule amended commercial space transportation regulations for the launch and reentry of reusable launch vehicles (RLVs) to establish operational requirements for launches of RLVs and to implement the FAA's reentry licensing authority by prescribing requirements for obtaining a license to launch and reenter an RLV, to reenter a reentry vehicle, and to operate a reentry site. In that final rule, the FAA inadvertently made minor errors, which this technical amendment corrects.

DATES: Effective August 30, 2016.

FOR FURTHER INFORMATION CONTACT: For questions concerning this action contact Stewart Jackson, Regulations and Analysis Division, AST-300, Federal Aviation Administration, 800 Independence Avenue SW., Washington, DC 20591; telephone (202) 267-7903; email stewart.jackson@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document corrects errors in 14 CFR 431.79. These corrections will not impose any additional restrictions on the persons affected by these regulations. Furthermore, any additional delay in making the regulations correct would be contrary to the public interest. Accordingly, the FAA finds that (i) public comment on these standards prior to promulgation is unnecessary, and (ii) good cause exists to make this rule effective in less than 30 days.

Background

On September 19, 2000, the FAA published the “Commercial Space Transportation Reusable Launch Vehicle and Reentry Licensing Regulations; Final Rule” (65 FR 56618). The final rule amended commercial space transportation regulations governing the launch and reentry of reusable launch vehicles (RLVs) to establish operational requirements for launches of RLVs and to implement the FAA's reentry licensing authority by prescribing requirements for obtaining a license to launch and reenter an RLV, to reenter a reentry vehicle, and to operate a reentry site. Licensing rules are necessary to respond to advancements in the development of commercial RLV and reentry capability. The action was necessary to fulfill the FAA's safety mandate by limiting risk to the public from RLV and reentry operations.

The final rule contains a more complete discussion of the rule and the events leading up to it.

Technical Amendment

The technical amendment makes the following correction:

(1) In § 431.79(a)(3), the duplicate text “federal” is removed and the phrase “for at” is changed to “from”.

List of Subjects in 14 CFR Part 431

Aviation safety, Environmental protection, Investigations, Reporting and recordkeeping requirements, Space transportation and exploration.

The Amendment

In consideration of the foregoing, the Federal Aviation Administration amends chapter III of title 14, Code of Federal Regulations as follows:

PART 431—LAUNCH AND REENTRY OF A REUSABLE LAUNCH VEHICLE (RLV)

1. The authority citation of part 431 continues to read as follows:

Authority: 51 U.S.C. 50901-50923.

§ 431.79 [Amended]

2. Amend § 431.79(a)(3) by removing the duplicate text “federal” and by removing the phrase “for at” and adding in its place “from”.

Issued in Washington, DC, on August 23, 2016.
Dale Bouffiou,
Acting Director, Office of Rulemaking.

[FR Doc. 2016-20815 Filed 8-29-16; 8:45 am]

BILLING CODE 4910-13-P